DEPARTMENT OF ENERGY

Fusion Energy Sciences Advisory Committee

AGENCY: Department of Energy, Office of Science.

ACTION: Notice of open meeting.

SUMMARY: This notice announces a meeting of the Fusion Energy Sciences Advisory Committee. The Federal Advisory Committee Act (Pub. L. 92-463, 86 Stat. 770) requires that public notice of these meetings be announced in the Federal Register.

DATES: Tuesday, March 9, 2010, 9 a.m. to 5 p.m. and Wednesday, March 10, 2010, 8:30 a.m. to 12 p.m.

ADDRESSES: The Gaithersburg Hilton, 620 Perry Parkway, Gaithersburg, Maryland 20877.

FOR FURTHER INFORMATION CONTACT: Albert L. Opdenaker, Office of Fusion Energy Sciences; U.S. Department of Energy; 1000 Independence Avenue, SW.; Washington, DC 20585-1290; Telephone: 301-903-4941.

SUPPLEMENTARY INFORMATION: Purpose of the Meeting: The charge to the Committee to conduct a review of the program by a Committee of Visitors (COV) will be completed with the Committee hearing a report from the COV and then transmitting the report to the Department if FESAC approves it, and there will be presentations and discussions about the potential future areas of research.

Tentative Agenda:

• Office of Science Perspectives

• FES Program Perspectives

• Report from the Committee of Visitors

• Discussion of alternate experimental platforms for code validation

• Report on the results from the Fusion-Fission Workshop

• Report on the results of the High Energy Density Laboratory Physics Research Needs Workshop

• Preparation of Letter to DOE

• Public Comments

• Adjourn

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). Reasonable provision will be made to include the scheduled oral statements during the Public Comments time on the agenda. The Chairperson of the Committee will conduct the meeting to facilitate the orderly conduct of business. Public comment will follow the 10-minute rule. This notice is being published less than 15 days before the date of the meeting due to the February blizzard.

Minutes: The minutes of the meeting will be available for public review and copying within 30 days at the Freedom of Information Public Reading Room; 1E-190, Forrestal Building; 1000 Independence Avenue, SW.; Washington, DC 20585; between 9 a.m. and 4 p.m., Monday through Friday, except holidays, and on the Fusion Energy Sciences Advisory Committee Web site— http://www.science.doe.gov/ofes/fesac.shtml.

Issued at Washington, DC, on February 19, 2009.
Rachel Samuel,
Deputy Committee Management Officer.

[FR Doc. 2010-3845 Filed 2-24-10; 8:45 am]

BILLING CODE 6450-01-P